GENERAL SERVICES ADMINISTRATION

[Notice-MA-2024-02; Docket No. 2024-0002; Sequence No. 49]

Maximum Per Diem Reimbursement Rates for the Continental United States (CONUS)

AGENCY: Office of Government-wide Policy (OGP), General Services Administration (GSA).

ACTION: Notice of GSA Per Diem Bulletin FTR 25-01, Fiscal Year (FY) 2025 CONUS per diem reimbursement rates.

SUMMARY: The GSA FY 2025 per diem reimbursement rates review has resulted in lodging and meal allowance changes for certain locations within CONUS to provide for reimbursement of Federal employees' subsistence expenses while on official travel.

DATES: Applicability Date: This notice applies to travel performed on or after October 1, 2024, through September 30, 2025.

FOR FURTHER INFORMATION CONTACT: For clarification of content, contact Sarah Selenich, Office of Government-wide Policy, Office of Asset and Transportation Management, at 202-568-4265 or by email at travelpolicy@gsa.gov. Please cite Notice of GSA Per Diem Bulletin FTR 25-01.

SUPPLEMENTARY INFORMATION: The CONUS per diem reimbursement rates prescribed in Bulletin 25-01 may be found at https://www.gsa.gov/perdiem. GSA bases the maximum lodging allowance rates on average daily rate, a widely accepted lodging industry measure, less five percent. If a maximum lodging allowance rate and/or a meals and incidental expenses (M&IE) per diem reimbursement rate is insufficient to meet necessary expenses in any given CONUS location, Federal executive agencies can request that GSA review that location. More information on rate setting can be found on GSA's “Factors Influencing Lodging Rates” tab at https://www.gsa.gov/perdiem. Additional information on the special review process can also be found at this website under the “FAQs” tab. Further, the Federal Travel Regulation (FTR) allows for actual expense reimbursement as provided in §§ 301-11.300 through 301-11.306.

For FY 2025, no new non-standard area (NSA) locations are added. Maximum lodging allowance rates in some existing per diem localities are changing and the standard CONUS lodging rate is increasing from $107 to $110. The M&IE reimbursement rate tiers are also revised for FY 2025; they were last revised in FY 2022. The M&IE NSA tiers are increasing from $59-$79 to $68-$92, and the standard M&IE rate is increasing from $59 to $68.

Other than the changes posted on the GSA website, notices published periodically in the Federal Register now constitute the only notification of revisions in CONUS per diem reimbursement rates to agencies.

Mehul Parekh,
Acting Associate Administrator, Office of Government-wide Policy.

[FR Doc. 2024-17954 Filed 8-16-24; 8:45 am]

BILLING CODE 6820-14-P